TENNESSEE VALLEY AUTHORITY

Paperwork Reduction Act of 1995, as amended by Public Law 104-13; Proposed Collection, Comment Request

AGENCY: Tennessee Valley Authority.

ACTION: Proposed collection; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 0008QG1) Comments should be sent to the Agency Clearance Officer no later than June 12, 2007.

SUPPLEMENTARY INFORMATION: Type of Request: Regular submission; proposal for a new collection. (OMB Control number: 3316-0000).

Title of Information Collection: Safety Harbors and Safety Landings Assessment, Tennessee River.

Frequency of Use: Approximately every 10 years.

Type of Affected Public: Business, Federal Government.

Small Businesses or Organizations Affected: No.

Estimated Number of Annual Responses: 80.

Estimated Total Annual Burden Hours: 40.

Estimated Average Burden Hours Per Response: 0.5.

Need for and Use of Information: The Tennessee Valley Authority, in conjunction with the U.S. Army Corps of Engineers, is assessing the status of the safety harbors and safety landings located along the Tennessee River and its tributaries. This type of assessment was performed approximately ten years ago. However, due to the changing river conditions and uses over the past several years, along with the growing demand for lake access, it is important to identify and preserve the most essential and useful safety harbors and safety landings that are currently designated. Only those safety harbors and safety landings that are considered nonessential and unusable by the towing industry would be discontinued. The information provided through this assessment will be used to support the justification of preserving stretches of shoreline for commercial navigation uses. Respondents are not required to answer all of the questions, but are requested to focus their review on the portion of the river that their tows transit.

Steve A. Anderson,
Manager, IS Business Services, Information Services.

[FR Doc. E7-6980 Filed 4-12-07; 8:45 am]

BILLING CODE 8120-08-P